DEPARTMENT OF TRANSPORTATION

Federal Aviation Administration

14 CFR Part 71

[Docket No. FAA-2016-9374; Airspace Docket No. 16-AGL-23]

RIN 2120-AA66

Proposed Modification of VOR Federal Airways V-55, V-63, V-177, V-228, and V-246 in the Vicinity of Stevens Point, WI

AGENCY: Federal Aviation Administration (FAA), DOT.

ACTION: Notice of proposed rulemaking (NPRM).

SUMMARY: This action proposes to modify five VHF Omnidirectional Range (VOR) Federal airways in the vicinity of Stevens Point, WI. The FAA is proposing this action due to the planned decommissioning of the Stevens Point, WI (STE), VHF Omnidirectional Range/Tactical Air Navigation (VORTAC) navigation aid (NAVAID) which provides navigation guidance for portions of the ATS routes proposed to be amended by this action. This action would enhance the safety and efficient management of aircraft in the Stevens Point, WI, area.

DATES: Comments must be received on or before April 13, 2017.

ADDRESSES: Send comments on this proposal to the U.S. Department of Transportation, Docket Operations, 1200 New Jersey Avenue SE., West Building Ground Floor, Room W12-140, Washington, DC 20590; telephone: 1 (800) 647-5527, or (202) 366-9826. You must identify FAA Docket No. FAA-2016-9374 and Airspace Docket No. 16-AGL-23 at the beginning of your comments. You may also submit comments through the Internet at http://www.regulations.gov. You may review the public docket containing the proposal, any comments received, and any final disposition in person in the Dockets Office between 9:00 a.m. and 5:00 p.m., Monday through Friday, except Federal holidays. The Docket Office (telephone 1 (800) 647-5527), is on the ground floor of the building at the above address.

FAA Order 7400.11A, Airspace Designations and Reporting Points, and subsequent amendments can be viewed online at http://www.faa.gov/air_traffic/publications/. For further information, you can contact the Airspace Policy Group, Federal Aviation Administration, 800 Independence Avenue SW., Washington, DC 20591; telephone: (202) 267-8783. The Order is also available for inspection at the National Archives and Records Administration (NARA). For information on the availability of FAA Order 7400.11A at NARA, call (202) 741-6030, or go to http://www.archives.gov/federal_register/code_of_federal-regulations/ibr_locations.html.

FAA Order 7400.11, Airspace Designations and Reporting Points, is published yearly and effective on September 15.

FOR FURTHER INFORMATION CONTACT: Colby Abbott, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the NAS route structure as necessary to preserve the safe and efficient flow of air traffic within the NAS.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2016-9374 and Airspace Docket No. 16-AGL-23) and be submitted in triplicate to the Docket Management Facility (see ADDRESSES section for address and phone number). You may also submit comments through the internet at http://www.regulations.gov.

Commenters wishing the FAA to acknowledge receipt of their comments on this action must submit with those comments a self-addressed, stamped postcard on which the following statement is made: “Comments to FAA Docket No. FAA-2016-9374 and Airspace Docket No. 16-AGL-23.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at http://www.regulations.gov. Recently published rulemaking documents can also be accessed through the FAA's Web page at http://www.faa.gov/air_traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Operations Support Group, Central Service Center, Federal Aviation Administration, 10101 Hillwood Blvd., Fort Worth, TX, 76177.

Availability and Summary of Documents for Incorporation by Reference

This document proposes to amend FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

Background

The FAA is planning decommissioning activities for the Stevens Point, WI (STE), VORTAC to take place in 2017 as one of the candidate VORs identified for discontinuance by the VOR Minimum Operating Network (VOR MON) program and listed in the Final policy statement notice, “Provision of Navigation Services for the Next Generation Air Transportation System (NextGen) Transition to Performance-Based Navigation (PBN) (Plan for Establishing a VOR Minimum Operational Network),” published in the Federal Register of July 26, 2016 (81FR 48694), Docket No. FAA-2011-1082. Additionally, the Stevens Point VORTAC has been reported as out-of-service since October 31, 2012, by Notice to Airmen (NOTAM) due to extreme fluctuations in signal modulation and out-of-tolerance structure. The VORTAC is unusable as a terminal facility, is showing out-of-tolerance conditions at many enroute altitudes, and numerous attempts to repair the VORTAC to put it back in service have failed. The affected ATS routes are VOR Federal airways V-55, V-63, V-177, V-228, and V-246.

With the planned decommissioning of the Stevens Point, WI, VORTAC, the FAA has determined the remaining ground-based NAVAID coverage in the area is insufficient to enable the continuity of the affected airways. As such, proposed modifications to VOR Federal airways V-55, V-63, V-177, V-228, and V-246 will result in gaps in the route structures. To overcome the gaps that would result in the route structures, instrument flight rules (IFR) traffic could use adjacent VOR Federal airways V-9, V-26, V-78, V-191, V-341, or V-345 to circumnavigate the affected area, could file point-to-point through the affected area using the fixes that will remain in place, or could receive air traffic control (ATC) radar vectors through the area. VFR pilots who elect to navigate via airways through the affected area could also take advantage of the adjacent VOR Federal airways or ATC services listed previously.

The Proposal

The FAA is proposing an amendment to Title 14, Code of Federal Regulations (14 CFR) part 71 to modify the descriptions of VOR Federal airways V-55, V-63, V-177, V-228, and V-246 due to the planned decommissioning of the Stevens Point, WI, VORTAC. The proposed route changes are described below.

V-55: V-55 currently extends between the Dayton, OH (DQN), VOR and the Bismarck, ND (BIS), VOR. In a separate NPRM, the FAA proposed to remove the airway segment between the Siren, WI (RZN), VOR/Distance Measuring Equipment (VOR/DME) and the Park Rapids, MN (PKD), VOR/DME (82 FR 6353, January 19, 2017). The FAA now proposes to remove the airway segment between the intersection of the Green Bay, WI (GRB), VORTAC 270°(T)/269°(M) and Oshkosh, WI (OSH), VORTAC 339°(T)/337°(M) radials (the BIPID fix) and the Eau Claire, WI (EAU), VORTAC in this NPRM. The unaffected portions of the existing airway would remain as charted in the three remaining segments.

V-63: V-63 currently extends between the Bowie, TX MN (UKW), VORTAC and the Houghton, MI (CMX), VOR/DME. The FAA proposes to remove the airway segment between the Oshkosh, WI (OSH), VORTAC and the Wausau, WI (AUW), VORTAC. The unaffected portions of the existing airway would remain as charted in the two remaining segments.

V-177: V-177 currently extends between the Joliet, IL (JOT), VORTAC and the Ely, MN (ELO), VOR/DME. The FAA proposes to remove the airway segment between the Madison, WI (MAD), VOR/DME and the Wausau, WI (AUW), VORTAC. The unaffected portions of the existing airway would remain as charted in the two remaining segments.

V-228: V-228 currently extends between the Stevens Point, WI (STE), VORTAC and the Gipper, MI (GIJ), VORTAC. The FAA proposes to remove the airways segment between the Stevens Point, WI (STE), VORTAC and the Dells, WI (DLL), VORTAC. The unaffected portion of the existing airway would remain as charted.

V-246: V-246 currently extends between the Janesville, WI (JVL), VOR/DME and Stevens Point, (STE), VORTAC. The FAA proposes to remove the airway segment between the intersection of the Nodine, MN (ODI), VORTAC 055°(T)/054°(M) and Eau Claire, WI (EAU), VORTAC 134°(T)/130°(M) radials (the MILTO fix) and the Stevens Point, WI (STE), VORTAC. The unaffected portion of the existing airway will remain as charted.

All radials in the route descriptions below that do not reflect True (T)/Magnetic (M) degree radial information are unchanged and stated in True degrees.

VOR Federal airways are published in paragraph 6010(a) of FAA Order 7400.11A, dated August 3, 2016, and effective September 15, 2016, which is incorporated by reference in 14 CFR 71.1. The VOR Federal airways listed in this document will be subsequently published in the Order.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016 and effective September 15, 2016, is amended as follows:

Paragraph 6010(a) Domestic VOR Federal airways.

* * * * *

V-55 [Amended]

From Dayton, OH; Fort Wayne, IN; Goshen, IN; Gipper, MI; Keeler, MI; Pullman, MI; Muskegon, MI; INT Muskegon 327° and Green Bay, WI, 116° radials; Green Bay; to INT Green Bay 270°(T)/269°(M) and Oshkosh, WI, 339°(T)/337°(M) radials. From Eau Claire, WI; to Siren, WI. From Park Rapids, MN; Grand Forks, ND; INT Grand Forks 239° and Bismarck, ND, 067° radials; to Bismarck.

* * * * *

V-63 [Amended]

From Bowie, TX; Texoma, OK; McAlester, OK; Razorback, AR; Springfield, MO; Hallsville, MO; Quincy, IL; Burlington, IA; Moline, IL; Davenport, IA; Rockford, IL; Janesville, WI; Badger, WI; to Oshkosh, WI. From Wausau, WI; Rhinelander, WI; to Houghton, MI. Excluding that airspace at and above 10,000 feet MSL from 5 NM north to 46 NM north of Quincy, IL, when the Howard West MOA is active.

* * * * *

V-177 [Amended]

From Joliet, IL; Janesville, WI; to Madison, WI. From Wausau, WI; Hayward, WI; Duluth, MN; to Ely, MN.

* * * * *

V-228 [Amended]

From Dells, WI; Madison, WI; INT Madison 138° and Chicago O'Hare, IL, 316° radials; INT Chicago O'Hare 316° and Northbrook, IL, 291° radials; Northbrook; INT Northbrook 110° and Gipper, MI, 290° radials; to Gipper.

* * * * *

V-246 [Amended]

From Janesville, WI; Dubuque, IA; Waukon, IA; Nodine, MN; to INT Nodine 055°(T)/054°(M) and Eau Claire, WI, 134°(T)/130°(M) radials.

Issued in Washington, DC, on February 6, 2017.
Leslie M. Swann,
Acting Manager, Airspace Policy Group.

[FR Doc. 2017-03536 Filed 2-24-17; 8:45 am]

BILLING CODE 4910-13-P